DEPARTMENT OF AGRICULTURE

Submission for OMB Review; Comment Request

March 16, 2020.

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 20, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Wildfires and Hurricanes Indemnity Program Pluses (WHIP+).

OMB Control Number: 0560-0294.

Summary of Collection: The Additional Supplemental Appropriations for Disaster Relief Act, 2019 (Disaster Relief Act; Pub. L. 116-20) authorized $3 billion in assistance for losses to crops, trees, bushes, and vines due to 2018 and 2019 hurricanes, floods, tornadoes, typhoons, volcanic activity, snowstorms, and wildfires. The Disaster Relief Act requires all participants who receive WHIP+ payments to purchase crop insurance or NAP coverage for the applicable crop years for which they are requesting assistance.

Need and Use of the Information: The information submitted by respondents on the various forms will be used by FSA to determine eligibility and distribute payments to eligible producers under WHIP+. Failure to solicit application will result in failure to provide payments to eligible producers as intended by the Disaster Relief Act.

Description of Respondents: Farms.

Number of Respondents: 26,592.

Frequency of Responses: Reporting; Other (one-time).

Total Burden Hours: 18,405.

Ruth Brown,
Departmental Information Collection Clearance Officer.

[FR Doc. 2020-05736 Filed 3-18-20; 8:45 am]

BILLING CODE 3410-05-P